DEPARTMENT OF ENERGY

Federal Energy Regulatory Commission

[Project No. 2984]

S.D. Warren Company; Notice of Filings

August 3, 2005.

S.D. Warren Company is the licensee for the Eel Weir Hydroelectric Project No. 2984 at Sebago Lake, Maine.¹ The licensee maintains the level of the dam's reservoir pursuant to a Lake Level Management Plan (Plan).²

¹ 26 FERC ¶ 61,241 (1984).

² Order Approving Settlement and Amending License, 79 FERC ¶ 61,064 (1997). The Plan was amended in Order Amending Lake Level Management Plan, 92 FERC ¶ 62,180 (2000), and was further amended in Order Granting Rehearing and Amending Lake Level Management Plan, 94 FERC ¶ 61,034 (2001).

Commission staff received several telephone reports from local residents concerning high lake levels at the Eel Weir Project during April and May of 2005. Commission staff responded by sending a letter to the licensee on May 3, 2005. The letter directed the licensee to provide: (1) Information concerning project operations in late April and early May 2005, (2) schedules of releases from Sebago Lake for the same period, (3) precipitation data for the period in question, (4) a description of observed or reported adverse impacts and proposed actions to ensure future compliance; and (5) copies of any correspondence from Federal or State resource agencies. On May 31, 2005, the licensee filed a timely response.

The Commission has since received filings from several individuals or groups ³ reiterating concerns over high lake levels. Commission staff is already in the process of investigating these matters, and the recent filings, which are in the public record for this project, will be considered in any order resulting from staff's investigation.

³ Filings have been made by Stephen M. Kasprzak; Roger Wheeler, President of the Friends of Sebago Lake; Charles Bragdon, Jr.; Diana Wheeler; and Matthew Anderson, Ph.D.

Magalie R. Salas,
Secretary.

[FR Doc. E5-4319 Filed 8-9-05; 8:45 am]

BILLING CODE 6717-01-P